CONSUMER PRODUCT SAFETY COMMISSION

16 CFR Part 1610

Standard for the Flammability of Clothing Textiles; Corrections

AGENCY: Consumer Product Safety Commission.

ACTION: Correcting amendments.

SUMMARY: The U.S. Consumer Product Safety Commission published in the Federal Register of March 25, 2008, a final rule amending its flammability standard for general wearing apparel, the Standard for the Flammability of Clothing Textiles, 16 CFR Part 1610. The published rule contained some incorrect typographical symbols and other inadvertent errors. This document corrects those symbols and errors.

DATES: Effective on October 20, 2008.

FOR FURTHER INFORMATION CONTACT: Mary Toro, Directorate for Compliance and Field Operations, Consumer Product Safety Commission, 4330 East West Highway, Bethesda, Maryland 20814-4408; telephone (301) 504-7586; e-mail mtoro@cpsc.gov.

SUPPLEMENTARY INFORMATION: The U.S. Consumer Product Safety Commission published in the Federal Register of March 25, 2008, (73 FR 15636) an amendment to the Standard for the Flammability of Clothing Textiles, 16 CFR Part 1610. As published, the rule contained some incorrect typographical symbols and inadvertent technical errors in the text and drawings. This document corrects those symbols and errors.

List of Subjects in 16 CFR part 1610

Clothing, Consumer protection, Flammable materials, Incorporation by reference, Reporting and recordkeeping requirements, Textiles, Warranties.

Accordingly, 16 CFR part 1610 is corrected by making the following correcting amendments:

PART 1610—STANDARD FOR THE FLAMMABILITY OF CLOTHING TEXTILES

1. The authority citation for part 1610 continues to read as follows:

Authority: 15 U.S.C. 1191-1204.

2. Revise the last sentence of paragraph (a)(1)(vii) of § 1610.5 to read as follows:

§ 1610.5 Test apparatus and materials.

(a) * * *

(1) * * *

(vii) * * * The weight shall be 30g ± 5g (1.16 oz. ± 0.18 oz).

* * * * *

3. Amend § 1610.6 as follows:

a. In paragraph (a)(3)(v) remove the word “dessicant” and add, in its place “desiccant”.

b. Revise paragraph (b)(1)(ii) to read as follows:

§ 1610.6 Test procedure.

* * * * *

(b) * * *

(1) * * *

(ii) Laundering procedure. The sample, after being subjected to the dry cleaning procedure, shall be washed and dried one time in accordance with sections 8.2.2, 8.2.3 and 8.3.1(A) of AATCC Test Method 124-2006 “Appearance of Fabrics after Repeated Home Laundering” (incorporated by reference at § 1610.6(b)(1)(B)(iii)). Washing shall be performed in accordance with sections 8.2.2 and 8.2.3 of AATCC Test Method 124-2006 using AATCC 1993 Standard Reference Detergent, powder and wash water temperature (IV) (120° ± 5 °F; 49° ± 3 °C) specified in Table II of that method, and the water level, agitator speed, washing time, spin speed and final spin cycle specified for “Normal/Cotton Sturdy” in Table III of that method. A maximum wash load shall be 8 pounds (3.63 kg) and may consist of any combination of test samples and dummy pieces. Drying shall be performed in accordance with section 8.3.1(A) of that test method, Tumble Dry, using the exhaust temperature (150° ± 10 °F; 66° ± 5 °C) and cool down time of 10 minutes specified in the “Durable Press” conditions of Table IV.

* * * * *

3. Revise Figure 6 to Part 1610 as follows:

Figure 6 to Part 1610 An Example of a Typical Igniter

BILLING CODE 6355-01-P

4. Revise Figure 9 to Part 1610 as follows:

Figure 9 to Part 1610 An Example of a Typical Brushing Device Template

Dated: October 10, 2008.
Todd A. Stevenson,
Secretary, Consumer Product Safety Commission.

[FR Doc. E8-24712 Filed 10-17-08; 8:45 am]

BILLING CODE 6355-01-C